DEPARTMENT OF JUSTICE

Notice of Consent Decree Pursuant to the Clean Water Act

In accordance with Departmental Policy, 28 CFR 50.7, notice is hereby given that a proposed consent decree in United States v. ConocoPhillips Company, Civ. No. H-04-3813, DOJ #90-5-1-1-07664, was lodged in the United Stated District Court for the Southern District of Texas on October 4, 2004. The Consent Decree resolves the liability of the named defendant to the United States for violations of section 301 of the Clean Water Act, 33 U.S.C. 1311. The claim arises from the defendant's discharge of effluent from a wastewater treatment facility at its Sweeny Refinery in Old Ocean, Texas, in violation of effluent limits, including limits for Whole Effluent Toxicity, contained in its National Pollution Discharge Elimination System permit.

Under the proposed consent decree, Defendant will pay a civil penalty of $610,000 and will perform a Supplemental Environmental Project which consists of the donation of 128 acres to the Austin Woods Unit of the San Bernard National Wildlife Refuge. Additionally, Defendant is required to take the necessary measures to comply with the CWA and its permit.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. ConocoPhillips Company, DOJ #90-5-1-1-07664. The proposed Consent Decree may be examined at the Office of the United States Attorney, Southern District of Texas, 910 Travis Street, Suite 1500, Houston, Texas 77208, and at U.S. EPA Region 6, 1445 Ross Avenue, Suite 1200, Dallas, Texas 75202. During the public comment period, the proposed Consent Decree may also be examined on the following Department of Justice Web site, http://www.usdoj.gov/enrd/open.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $13.50 (25 cents per page reproduction cost) payable to the U.S. Treasury.

Thomas Mariani,
Assistant Chief, Environmental Enforcement Section, Environment and Natural Resources Division.

[FR Doc. 04-23497 Filed 10-21-04; 8:45 am]

BILLING CODE 4410-15-M